FEDERAL COMMUNICATIONS COMMISSION

[MB Docket No. 26-45; DA 26-188; FR ID 33405]

Media Bureau Seeks Comment on Sports Broadcasting Practices and Marketplace Developments

AGENCY: Federal Communications Commission.

ACTION: Notice; request for comments.

SUMMARY: In this document, the Media Bureau of the Federal Communications Commission seeks comments to enable the Commission to evaluate the sports media marketplace and how changes in the industry have impacted broadcasters and consumers.

DATES: Comments due on or before March 27, 2026. Reply comments due on or before April 13, 2026.

ADDRESSES: Pursuant to §§ 1.415 and 1.419 of the Commission's rules, 47 CFR 1.415, 1.419, interested parties may file comments and reply comments on or before the dates indicated on the first page of this document. Comments may be filed using the Commission's Electronic Comment Filing System (ECFS). You may submit comments, identified by MB Docket No. 26-42, by any of the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities: To request materials in accessible formats for people with disabilities (braille, large print, electronic files, audio format), send an email to fcc504@fcc.gov or call the Consumer & Governmental Affairs Bureau at 202-418-0530.

FOR FURTHER INFORMATION CONTACT: Chad Guo, Chad.Guo@fcc.gov, of the Industry Analysis Division, Media Bureau, (202) 418-0652.

SUPPLEMENTARY INFORMATION: This is a summary of the Media Bureau's document (Public Notice) in MB Docket No. 26-45, DA 26-188, released on February 25, 2026. The full text of this document is available for public inspection online at https://docs.fcc.gov/public/attachments/DA-26-188A1.pdf and via the search function on the Commission's Electronic Document Management System (EDOCS) web page at https://www.fcc.gov/edocs. Alternative formats are available for people with disabilities (Braille, large print, electronic files, audio format, etc.) and reasonable accommodations (accessible format documents, sign language interpreters, CART, etc.) may be requested by sending an email to fcc504@fcc.gov or call the Consumer & Governmental Affairs Bureau at 202-418-0530 (voice).

Ex Parte Rules—Permit-But-Disclose. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Filing Requirements. Interested parties may file comments and reply comments on or before the dates indicated on the first page of this document. Comments may be filed using the

Synopsis

For decades, Americans have enjoyed turning on their television sets and quickly finding the games they wanted to watch for free on an over-the-air broadcast. Yet watching your favorite sports team play is not as easy these days. Many games are still available for free over broadcast TV, but there has been a surge in recent years of games going behind the paywalls of various streaming services. While this can increase the number of games and sports available to fans, many consumers today find it more difficult to find the events they want to watch and are now paying to sign up for one or more video distribution platforms that consumers can find difficult to navigate.

From a historic perspective, live sports and broadcast television have enjoyed a long and mutually beneficial relationship—one that worked well for consumers too. Sports leagues leveraged the wide distribution of broadcast TV to help grow their fan base and expand their revenues. In turn, broadcast television stations used the popularity of live sports and the advertising revenues from the programming to support their own industry and operations, including funding the local news and reporting that are so important to our country.

It is against this backdrop that the Media Bureau issues this Public Notice today. We would like for commenters to address the current and emerging trends in the distribution of live sports programming. How does the present marketplace benefit or harm consumers? How does the recent trends towards fragmentation facilitate or inhibit the ability of local broadcast television stations to meet their public interest obligations, including their production of local news and reporting? In what ways is the marketplace continuing to evolve and how will future changes impact consumer access to free over-the-air news and information, including public safety information? A broader range of questions are specified below.

Background. Live sports on television dates back to the 1939 World's Fair, when NBC (then owned by RCA) broadcast a college baseball game between Princeton and Columbia at Baker Field in New York. The picture quality left a lot to be desired back then, with reports indicating that the players looked like flies and the ball itself was rarely visible. It was early days for broadcast television. The signal was delivered through NBC's mobile television van and relayed to a transmitter atop the Empire State Building before being viewed across 400 or so television sets in the New York area. Princeton won 2-1 in ten innings.

Over the ensuing decades, a range of live sports—led by sports like boxing, baseball, hockey, basketball, and football—helped drive the American public's adoption of television. In turn, television led to an increased popularity of professional and collegiate sports, and a new source of revenue for sports leagues and teams through “media rights fees” paid by networks or stations for the right to broadcast sporting events. Since the 1960s, sports media rights fees have exponentially increased. For example, in 1960 the American Football League (AFL) entered into a five-year rights contract with ABC for $8.5 million and in 1961 the National Football League (NFL) entered into a two-year rights agreement with CBS for $9.8 million. In comparison, the most recent media rights deals entered into by the NFL amounted to more than $10 billion per year.

In an era when broadcast TV was the only way for the American public to watch professional sports, short of buying a ticket to attend a game in-person, Congress passed the Sports Broadcasting Act of 1961 (SBA), which provided certain antitrust relief to sports leagues to negotiate media rights. In particular, the SBA exempts from antitrust laws joint agreements among individual teams engaged in professional football, baseball, basketball, or hockey. 15 U.S.C. 1291. The SBA permits the professional sports leagues in each of those sports—the NFL, Major League Baseball (MLB), National Basketball Association (NBA), and National Hockey League (NHL)—to pool their individual teams' television rights and sell those rights as a package. The packaging of individual teams' television rights was thought to be necessary to enhance the financial stability of the leagues by assuring equal distribution of revenues among all teams.

The SBA also permits the NFL, MLB, NBA, and NHL to “blackout” TV broadcasts “within the home territory of a member club of the league on a day when such club is playing a game at home.” 15 U.S.C. 1292. TV blackouts were believed by the professional sports leagues to be necessary to protect gate receipts and encourage fans to attend games in-person. In 1975 the Commission adopted the “sports blackout rule” to address concerns that cable systems could frustrate sports leagues' blackout policies by importing the distant signal of a television station carrying the home game of a sports team that has elected to black out the game on a local broadcast station in its home territory due to lacking ticket sales. The rule was later extended to open video systems and direct broadcast satellite operators. The sports blackout rule prohibited cable operators, satellite carriers, and open video systems from retransmitting, within a protected local blackout zone, the signal of a distant broadcast station carrying a sporting event if the event is not available live on a local television broadcast station. This rule was intended to ensure that the potential loss of gate receipts resulting from retransmission of distant stations did not lead sports teams to refuse to sell their broadcast rights to distant stations, which would reduce the overall availability of sports programming on television. Concluding that the rule was no longer necessary for ensuring the wide availability of sports programming to television viewers, the Commission eliminated its sports blackout rule in 2014. Sports blackouts remain subject to private contractual arrangements between sports teams/leagues and their video program distributors. The SBA does not provide any antitrust exemptions to college sports.

Live sports are no longer on broadcast TV alone. Today, the NFL has media rights agreements with Disney (ESPN/ABC), Paramount (CBS/Paramount+), Fox Corporation (Fox/Fox One), NBCUniversal (NBC/Peacock), NFL Network, Amazon (Amazon Prime Video), Google (YouTube), and Netflix. Over the life of these agreements the NFL stands to bring in over $100 billion in sports rights fees. The other major professional sports leagues, the NHL, MLB, and NBA, have also agreed to media rights contracts with a range of national video program distributors that amount to billions of dollars.

Over the last two decades college athletic conferences have also entered into multi-billion dollar media rights agreements. Both professional sports leagues and college athletic conferences have also launched their own networks and direct-to-consumer streaming services. As a result, today, NFL, MLB, NBA, and NHL games can be found on broadcast, cable, and streaming services. Further, revenue derived from sport rights fees (national and local) is now a vital revenue source in sports, and in some cases is replacing gate receipts and other forms of income as the largest source of revenue.

At the same time, sports remain inherently local, despite the increasingly national nature and reach of both professional and college sports events. Just as communities turn to their local TV broadcasters for news, weather, and emergency information, they do the same for coverage of their local sports teams. Many sporting events that were previously available through free broadcast and traditional pay-TV packages, are now only available through a myriad of stand-alone subscription streaming services. This shift has led to notable frustration among many consumers and sports fans. Sports fans are increasingly left with a fragmented ecosystem that requires them to subscribe to multiple services to watch their favorite teams.

Request for Comment. Given the nexus between sports programming and the local media marketplace—as well as the FCC's ongoing work to support local news and reporting—we believe it is important for us to evaluate the sports media landscape and understand how changes have impacted consumers and broadcasters. Accordingly, we seek comment on the following questions.

With respect to the sports media marketplace, how have recent developments in the marketplace affected the ability of broadcasters to obtain media rights to sports programming? How have changes in the marketplace affected viewers' ability to watch nationally televised live sports, as well as their local team(s), on broadcast TV? What type of rights (e.g. exclusive, simulcast, replay) are included in agreements between leagues or conferences and national video programming distributors? How prevalent are sports media rights deals between local TV broadcasters and local sports teams and what are their terms and conditions? How have changes in the marketplace impacted costs to consumers?

While streamers have helped expand access to professional and collegiate sports, they also appear to have contributed to the fragmentation of the sports media marketplace. In 2025, NFL games aired on 10 different services, which, according to some estimates, could cost a consumer over $1,500 to watch all games. In addition, 20 NFL regular season games and one playoff game were nationally distributed, exclusively, on four different streaming services—Amazon Prime Video, YouTube, Peacock, and Netflix. In addition to games that were exclusively streamed, games that were televised on ABC/ESPN, CBS, Fox, and NBC were also streamed on each networks respective streaming platform—ESPN+, Paramount+, Fox One, and Peacock, respectively. While the NFL requires streamers to syndicate/simulcast games over TV broadcast stations in the local markets of the competing teams, this is a private contractual arrangement between the NFL and its distributors. Do any other professional or collegiate sports also have such a requirement? Are there relevant differences between games being distributed on linear broadcast services versus other streaming platforms? Are there any SBA implications associated with games distributed through non-broadcast channels? Does it matter if the distribution platforms are subscription-based services or not?

To what extent do current sports media rights contracts conflict with or impede TV broadcasters from meeting their public interest obligations? How should these arrangements be considered in the context of broadcasters' public interest obligations and the FCC's duty to ensure licensees meet their statutory requirements? See e.g., 47 U.S.C. 307, 310(d), 309(k). Does it impact consumer access to public safety and other emergency information? What role does the FCC have and what steps could it take to ensure any broadcast licensee responsibilities are fulfilled? Do local broadcast TV stations face challenges in airing other sports programming of interest to their local communities (e.g., local high school sports)? With one or more significant sports rights deals coming up for renewal, how should those negotiations factor into the FCC's analysis?

In addition to these specific questions, we invite comment on any other matters that parties believe would help the Commission understand the current sports media marketplace, its legal authority, and what actions the FCC could take to ensure continued access by viewers to live sports through free over-the-air broadcast TV.

Federal Communications Commission.
Thomas Horan,
Chief of Staff, Media Bureau.

[FR Doc. 2026-04286 Filed 3-3-26; 8:45 am]

BILLING CODE 6712-01-P